DEPARTMENT OF THE INTERIOR

National Park Service

Chalmette Battlefield Task Force Committee Meeting

AGENCY: National Park Service, Jean Lafitte National Historical Park and Preserve, Interior.

ACTION: Notice of Task Force Meeting.

SUMMARY: Notice is hereby given in accordance with the Federal Advisory Committee Act, 5 U.S.C. App.1, section 10(a)(2), that a meeting of the Chalmette Battlefield Task Force Committee will be held at 4 p.m. at the following location and date:

DATES: Wednesday, July 30, 2003.

ADDRESSES: Chalmette Battlefield, 8606 West St. Bernard Highway, LA 70042.

FOR FURTHER INFORMATION CONTACT: Ms. Geraldine Smith, Superintendent, Jean Lafitte National Historical Park and Preserve, 419 Decatur Street, New Orleans, LA 70130, (504) 589-3882, extension 137 or 108.

SUPPLEMENTARY INFORMATION: The purpose of the Chalmette Battlefield Task Force Committee is to advise the Secretary of the Interior on suggested improvements at the Chalmette Battlefield site within Jean Lafitte National Historical Park and Preserve.

The members of the Task Force are as follows: Ms. Elizabeth McDougall, Ms. Faith Moran, Mr. Anthony A. Fernandez, Jr., Mr. Drew Heaphy, Mr. Alvin W. Guillot, Mrs. George W. Davis, Mr. Eric Cager, Mr. Paul V. Perez, Captain, Ms. Bonnie Pepper Cook, Mr. Michael L. Fraering, Colonel John F. Pugh, Jr., and Ms. Geraldine Smith.

The proposed meeting agenda for July 30, 2003 includes: (1) An on-site inspection of park resources by Task Force members, park staff, and NPS technical personnel from the Southeast Regional Office, (2) discussion of potential future resource protection and visitor experience goals, and (3) coordination and scheduling of future meetings. Any member of the public may file with the committee a written statement concerning the matters to be discussed. Written statements may also be submitted to the superintendent at the address above. This meeting will be open to the public. However, facilities and space for accommodating members of the public are limited. Minutes of the meeting will be available for public inspection at park headquarters, 419 Decatur Street, New Orleans, Louisiana and on the park Website at http://www.nps.gov/jela.htm approximately 4 weeks after the meeting.

Dated: June 9, 2003.
Patricia A. Hooks,
Acting Regional Director, Southeast Region.

[FR Doc. 03-17266 Filed 7-8-03; 8:45 am]

BILLING CODE 4310-66-P